DEPARTMENT OF DEFENSE

Office of the Secretary

Amendment of Department of Defense Federal Advisory Committee

AGENCY: Department of Defense.

ACTION: Charter Amendment of Federal Advisory Committee.

SUMMARY: Under the provisions of 10 U.S.C. 175 and 10301 (as amended by Section 514 of the National Defense Authorization Act for Fiscal Year 2011, Pub. L. 111-383), the Federal Advisory Committee Act of 1972, (5 U.S.C. Appendix), the Government in the Sunshine Act of 1976 (5 U.S.C. 552b), and 41 CFR 102-3.50(a), the Department of Defense (DoD) gives notice that it is amending the charter for the Reserve Forces Policy Board (hereafter referred to as the “Board”).

The Board is a non-discretionary Federal advisory committee that shall serve as an independent adviser to the Secretary of Defense to provide advice and recommendations on strategies, policies, and practices designed to improve and enhance the capabilities, efficiency, and effectiveness of the reserve components. The Board may act on those matters referred to it by the Chairman and or any matter raised by a member of the Board or the Secretary of Defense. The Under Secretary of Defense (Personnel and Readiness) may act upon the Board's advice and recommendations.

The Board, pursuant to 10 U.S.C. 10301(c), shall consists of 20 members, appointed or designated as follows:

a. A civilian appointed by the Secretary of Defense from among persons determined by the Secretary to have the knowledge of, and experience in, policy matters relevant to national security and reserve component matters necessary to carry out the duties of chair of the Board, who shall serve as chair of the Board;

b. Two active or retired reserve officers or enlisted members designated by the Secretary of Defense upon the recommendation of the Secretary of the Army—

a. One of whom shall be a member of the Army Nation Guard of the United States or a former member of the Army National Guard of the United States in the Retired Reserve; and

b. One of whom shall be a member or retired member of the Army Reserve.

c. Two active or retired reserve officers or enlisted members designated by the Secretary of Defense upon recommendation of the Secretary of the Navy—

(1) One of whom shall be an active or retired officer of the Navy Reserve; and

(2) One of whom shall be an active or retired officer of the Marine Corps Reserve.

d. Two active or retired reserve officers or enlisted members designated by the Secretary of Defense upon the recommendation of the Secretary of the Air Force—

(1) One of whom shall be a member of the Air National Guard of the United States or a former member of the Air National Guard of the United States in the Retired Reserve; and

(2) One of whom shall be a member or retired member of the Air Force Reserve.

e. One active or retired reserve officer or enlisted member of the U.S. Coast Guard designated by the Secretary of Homeland Security.

f. Ten persons appointed or designated by the Secretary of Defense, each of whom shall be a United States citizen having significant knowledge of and experience in policy matters relevant to national security and reserve component matters and shall be one of the following:

(1) An individual not employed in any Federal or State department or agency;

(2) An individual employed by a Federal or State department or agency;

(3) An officer of a regular component of the armed forces on active duty, or an officer of a reserve component of the armed forces in an active status, who;

1. Is serving or has served in a senior position on the Joint Staff, the headquarters staff of a combatant command, or the headquarters staff of an armed force; and

2. Has experience in joint professional military education, joint qualification, and joint operations matters.

g. A reserve officer of the Army, Navy, Air Force, or Marine Corps who is a general or flag officer recommended by the chair and designated by the Secretary of Defense, who shall serve without vote—

(1) As military adviser to the chair;

(2) As military executive officer of the Board; and

(3) As supervisor of the operations and staff of the Board.

h. A senior enlisted member of a reserve component recommended by the chair and designated by the Secretary of Defense, who shall serve without vote as enlisted military adviser to the chair.

Board members appointed by the Secretary of Defense, who are not full-time or permanent part-time Federal employees, shall be appointed as experts and consultants under the authority of 5 U.S.C. 3109 and shall serve as special government employees. All Board members are appointed to provide advice on behalf of the government on the basis of their best judgment without representing any particular point of view and in a manner that is free from conflict of interest. The Secretary of Defense shall renew their appointments on an annual basis. With the exception of travel and per diem for official travel, Board members shall serve without compensation.

With DoD approval, the Board is authorized to establish subcommittees, as necessary and consistent with its mission. These subcommittees shall operate under the provisions of the Federal Advisory Committee Act of 1972, the Government in the Sunshine Act of 1976 (5 U.S.C. 552b), and other governing Federal statutes and regulations.

Such subcommittees shall not work independently of the chartered Board, and shall report all their recommendations and advice to the Board for full deliberation and discussion. Subcommittees have no authority to make decisions on behalf of the chartered Board; nor can they report directly to the Department of Defense or any Federal officers or employees who are not Board members.

Subcommittee members, who are not Board members, shall be appointed in the same manner as the Board members. Such individuals, if not full-time or part-time government employees, shall be appointed to serve as experts and consultants under the authority of 5 U.S.C. 3109, and serve as special government employees, whose appointments must be renewed on an annual basis. With the exception of travel, subcommittee members shall serve without compensation.

FOR FURTHER INFORMATION CONTACT: Jim Freeman, Deputy Advisory Committee Management Officer for the Department of Defense, 703-601-6128.

SUPPLEMENTARY INFORMATION: The Board shall meet at the call of the Designated Federal Officer, in consultation with the Board's chairperson and the estimated number of Board meetings is four per year.

The Designated Federal Officer, pursuant to DoD policy, shall be a full-time or permanent part-time DoD employee, and shall be appointed in accordance with governing DoD policies and procedures. In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to the Reserve Forces Policy Board's membership about the Board's mission and functions. Written statements may be submitted at any time or in response to the stated agenda of planned meeting of Reserve Forces Policy Board.

All written statements shall be submitted to the Designated Federal Officer for the Reserve Forces Policy Board, and this individual will ensure that the written statements are provided to the membership for their consideration. Contact information for the Reserve Forces Policy Board Designated Federal Officer can be obtained from the GSA's FACA Database— https://www.fido.gov/facadatabase/public.asp.

The Designated Federal Officer, pursuant to 41 CFR 102-3.150, will announce planned meetings of the Reserve Forces Policy Board. The Designated Federal Officer, at that time, may provide additional guidance on the submission of written statements that are in response to the stated agenda for the planned meeting in question.

Dated: July 14, 2011.
Aaron Siegel,
Alternate OSD Federal Register Liaison Officer, Department of Defense.

[FR Doc. 2011-18592 Filed 7-21-11; 8:45 am]

BILLING CODE 5001-06-P